NATIONAL AERONAUTICS AND SPACE ADMINISTRATION

[Notice: (14-111)]

NASA Advisory Council; Technology, Innovation and Engineering Committee; Meeting

AGENCY: National Aeronautics and Space Administration.

ACTION: Notice of meeting.

SUMMARY: In accordance with the Federal Advisory Committee Act, Public Law 92-463, as amended, the National Aeronautics and Space Administration (NASA) announces a meeting of the Technology, Innovation and Engineering Committee of the NASA Advisory Council. This meeting will be held for the purpose of soliciting, from the scientific community and other persons, scientific and technical information relevant to program planning.

DATES: Thursday, December 4, 2014, 8:00 a.m. to 5:00 p.m.; Local Time.

ADDRESSES: NASA Headquarters, Room MIC 6A, 300 E Street SW., Washington, DC 20546.

FOR FURTHER INFORMATION CONTACT: Mr. Mike Green, Space Technology Mission Directorate, NASA Headquarters, Washington, DC 20546, (202) 358-4710, or g.m.green@nasa.gov.

SUPPLEMENTARY INFORMATION: The meeting will be open to the public up to the capacity of the room. This meeting is also available telephonically and online via WebEx. Any interested person may call the USA toll free conference number 844-467-6272, passcode 102421, to participate in this meeting by telephone. The WebEx link is https://nasa.webex.com/, the meeting number is 999 401 003, and the password is “Technology14$”.

The agenda for the meeting includes the following topics:

—NASA Office of the Chief Technologist Update

—Briefing and Update on the Technology Demonstration Missions Program

—NASA Space Technology Mission Directorate Update

—Briefing and Update of NASA's Advance Exploration Systems Program

—NASA Office of the Chief Engineer Update

—Update on NASA's Future Workforce Diversity Efforts

—Discussion of Committee Recommendation on Technology Infusion into Future Science Missions

Attendees will be requested to sign a register and to comply with NASA Headquarters security requirements, including the presentation of a valid picture ID, before receiving access to NASA Headquarters. Foreign nationals attending this meeting will be required to provide a copy of their passport and visa in addition to providing the following information no less than 10 working days prior to the meeting: full name; gender; date/place of birth; citizenship; passport information (number, country, expiration date); visa information (number, type, expiration date); employer/affiliation information (name of institution, address, country, telephone); title/position of attendee. To expedite admittance, attendees with U.S. citizenship and Permanent Residents (green card holders) can provide full name and citizenship status 3 working days in advance by contacting Ms. Anyah Dembling via email at anyah.b.dembling@nasa.gov or by telephone at (202) 358-5195. It is imperative that this meeting be held on this date to accommodate the scheduling priorities of the key participants.

Patricia D. Rausch,
Advisory Committee Management Officer, National Aeronautics and Space Administration.

[FR Doc. 2014-26773 Filed 11-12-14; 8:45 am]

BILLING CODE 7510-13-P